DEPARTMENT OF TRANSPORTATION

Maritime Administration

[Docket No. MARAD-2002-13702]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before January 6, 2003.

FOR FURTHER INFORMATION CONTACT: Thomas Olsen, Maritime Administration, 400 Seventh Street, SW., Washington, DC. Telephone: 202-366-2313; FAX: 202-366-9580, or E-Mail: thomas.olsen@marad.dot.gov. Copies of this collection can also be obtained from that office.

SUPPLEMENTARY INFORMATION: Title of Collection: Determination of Fair and Reasonable Rates for Carriage of Agricultural Cargoes on U.S. Commercial Vessels.

Type of Request: Extension of currently approved information collection.

OMB Control Number: 2133-0514.

Form Numbers: None.

Expiration Date of Approval: Three years from date of OMB approval.

Summary of Collection of Information: This collection of information requires U.S.-flag operators to submit vessel operating costs and capital costs data to MARAD officials on an annual basis.

Need and Use of the Information: This information is needed by MARAD to establish fair and reasonable guideline rates for carriage of specific cargoes on U.S. vessels.

Description of Respondents: U.S. citizens who own and operate U.S.-flag vessels.

Annual Responses: 175.

Annual Burden: 700 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator.
Dated: October 29, 2002.
Joel C. Richard,
Secretary, Maritime Administration.

[FR Doc. 02-28086 Filed 11-4-02; 8:45 am]

BILLING CODE 4910-81-P